DEPARTMENT OF HEALTH AND HUMAN SERVICES

Meeting of Presidential Advisory Council on Combating Antibiotic-Resistant Bacteria; Correction

AGENCY: Office of the Assistant Secretary for Health, Office of the Secretary, Department of Health and Human Services.

ACTION: Notice; correction.

SUMMARY: The Office of the Assistant Secretary for Health published a document in the Federal Register of February 10, 2023, announcing a Meeting of Presidential Advisory Council on Combatting Antibiotic-Resistant Bacteria scheduled for March 23-24, 2023. The document includes meeting room information contained a meeting location that is now incorrect due to a room change on Thursday, March 23rd. The meeting is now scheduled to be held on March 23, 2023, from 9:30 a.m. to 4:25 p.m. ET at the Hyatt Regency Crystal City at Reagan National Airport, Regency Ballroom E/F, Arlington, Virginia. The meeting room information for Friday, March 24th remains unchanged; the meeting will be held at the Hubert H. Humphrey building in Washington, DC from 9:00 a.m. to 11:00 a.m. ET. All times are tentative.

FOR FURTHER INFORMATION CONTACT: Jomana Musmar, M.S., Ph.D., Designated Federal Officer, Presidential Advisory Council on Combating Antibiotic-Resistant Bacteria, Office of the Assistant Secretary for Health, U.S. Department of Health and Human Services, 1101 Wootton Parkway, Rockville, MD 20852. Phone: 202-746-1512; Email: CARB@hhs.gov.

SUPPLEMENTARY INFORMATION:

Correction

In the Federal Register of February 10, 2023, in FR Doc. 2023-02921, on page 8873, in the third column, within the ADDRESSES section, correct the meeting location to now read, “The public meeting is now scheduled to be held on March 23, 2023, from 9:30 a.m. to 4:25 p.m. ET at the Hyatt Regency Crystal City at Reagan National Airport, Regency Ballroom E/F, 2799 Richmond Hwy., Arlington, VA 22202. The meeting room information for Friday, March 24th remains unchanged; the meeting will be held at the Great Hall of the Hubert H. Humphrey building in Washington, DC from 9:00 a.m. to 11:00 a.m. ET. All times are tentative, please visit HHS.GOV/PACCARB for all updates.”

Jomana F. Musmar,
Designated Federal Officer, Presidential Advisory Council on Combating Antibiotic-Resistant Bacteria, Office of the Assistant Secretary for Health.

[FR Doc. 2023-05503 Filed 3-16-23; 8:45 am]

BILLING CODE 4150-44-P